SECURITIES AND EXCHANGE COMMISSION

Issuer Delisting; Notice of Application To Withdraw From Listing and Registration; (InterDigital Communications Corporation, Common Stock, $.01 Par Value, and Series B Junior Participating Preferred Stock Rights) File No. 1-11152

April 28, 2000.

InterDigital Communications Corporation (“Company”) has filed an application with the Securities and Exchange Commission (“Commission”), pursuant to Section 12(d) of the Securities Exchange Act of 1934 (“Act”) ¹ and Rule 12d2-2(d) thereunder, ² to withdraw the securities described above (“Securities”) ³ from listing registration on the American Stock Exchange LLC (“Amex”) and under Section 12(b) of the Act.⁴

¹ 15 U.S.C. 78l(d).

² 17 CFR 240.12d2-2(d).

³ The Series B Junior Participating Preferred Stock Rights are currently attached to, and trade together with, shares of the Common Stock.

⁴ 15 U.S.C. 78l(b).

The Company, whose business relates to wireless communications technology, has determined to transfer trading in its Securities from the Amex to the National Market of the Nasdaq Stock Market, Inc. (“Nasdaq”), which the Company believes offers the most trading activity and best liquidity and exposure for the securities of technology companies. The Company has registered its Securities pursuant to Section 12(g) of the Act ⁵ by filing a Registration Statement on Form 8-A with the Commission on April 25, 2000. The Securities subsequently became designated for quotation and began trading on the Nasdaq National Market, and were simultaneously suspended from trading on the Amex, on April 26, 2000.

⁵ 15 U.S.C. 78l(g).

The Company has stated that it has complied with the Rules of the Amex governing the withdrawal of its Securities from listing and registration on the Exchange and that the Amex, in turn, has indicated that it will not oppose such withdrawal.

The Company's application relates solely to the withdrawal of the Securities from listing and registration on the Amex and shall have no effect upon the Securities' designation for quotation and trading on the Nasdaq National Market and registration under Section 12(g) of the Act.⁶

⁶ Id.

Any interested person may, on or before May 19, 2000, submit by letter to the Secretary of the Securities and Exchange Commission, 450 Fifth Street, N.W., Washington, D.C. 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁷
⁷ 17 CFR 200.30-3(a)(1).
Jonathan G. Katz,
Secretary.

[FR Doc. 00-11333 Filed 5-4-00; 8:45 am]

BILLING CODE 8010-01-M